DEPARTMENT OF COMMERCE

International Trade Administration

[A-475-828]

Stainless Steel Butt-Weld Pipe Fittings From Italy: Final Results of Antidumping Duty Administrative Review; 2017-2018

AGENCY: Enforcement and Compliance, International Trade Administration, Department of Commerce.

SUMMARY: The Department of Commerce (Commerce) continues to find that Filmag Italia Spa (Filmag), an Italian producer/exporter of stainless steel butt-weld pipe fittings, did not make sales of subject merchandise at prices below normal value during the period of review of February 1, 2017 through January 31, 2018.

DATES: Applicable October 22, 2019.

FOR FURTHER INFORMATION CONTACT: John Drury, AD/CVD Operations, Office VI, Enforcement and Compliance, International Trade Administration, U.S. Department of Commerce, 1401 Constitution Avenue NW, Washington, DC 20230; telephone: (202) 482-0195.

SUPPLEMENTARY INFORMATION:

Background

On April 19, 2019, Commerce published in the Federal Register the Preliminary Results and provided parties an opportunity to comment.¹ A summary of the events that occurred since Commerce published the Preliminary Results, as well as a full discussion of the issues raised by parties for the final results, may be found in the Issues and Decision Memorandum.²

¹ See Stainless Steel Butt-Weld Pipe Fittings from Italy: Preliminary Results of Antidumping Duty Administrative Review; 2017-2018, 84 FR 16464 (April 19, 2019), and accompanying Preliminary Decision Memorandum (collectively, Preliminary Results).

² See Memorandum, “Issues and Decision Memorandum for the Final Results in the Less-Than-Fair-Value Administrative Review of Stainless Steel Butt-Weld Pipe Fittings from Italy,” dated concurrently with, and hereby adopted by, this notice (Issues and Decision Memorandum).

Scope of the Order

The merchandise covered by the order is certain stainless steel butt-weld pipe fittings from Italy.³ For a complete description of the scope, see the Issues and Decision Memorandum.

³ See Antidumping Duty Orders: Stainless Steel Butt-Weld Pipe Fittings From Italy, Malaysia, and the Philippines, 66 FR 11257 (February 23, 2001).

Analysis of Comments Received

All issues raised in the case and rebuttal briefs by interested parties are addressed in the Issues and Decision Memorandum. A list of the issues raised by parties is attached as the Appendix to this notice. The Issues and Decision Memorandum is a public document and is on file electronically via Enforcement and Compliance's Antidumping and Countervailing Duty Centralized Electronic Service System (ACCESS). ACCESS is available to registered users at https://access.trade.gov, and it is available to all parties in the Central Records Unit, Room B8024 of the main Department of Commerce building. In addition, a complete version of the Issues and Decision Memorandum can be accessed directly at http://enforcement.trade.gov/frn/index.html. The signed and electronic versions of the Issues and Decision Memorandum are identical in content.

Changes Since the Preliminary Results

Based on our review of the record and analysis of the comments received from interested parties, we made certain changes to the margin calculation for Filmag.⁴

⁴ See Issues and Decision Memorandum at Comments 1 and 2.

Final Results of Administrative Review

As a result of this administrative review, we determine the following weighted-average dumping margin exists for the period February 1, 2017 through January 31, 2018:

Producer/exporter | Weighted- average dumping margin (percent)
Filmag Italia Spa | 0.00

Disclosure

We intend to disclose the margin calculations performed in this proceeding within five days of the date of publication of this notice, in accordance with section 751(a) of the Tariff Act of 1930, as amended (the Act), and 19 CFR 351.224(b).

Assessment Rates

Commerce shall determine and U.S. Customs and Border Protection (CBP) shall assess antidumping duties on all appropriate entries.⁵ Because the weighted-average dumping margin of the sole respondent covered by this administrative review is zero, we will instruct CBP to liquidate entries covered by this review period without regard to antidumping duties. Commerce intends to issue assessment instructions to CBP 15 days after the publication date of the final results of this review.

⁵ In these final results, Commerce applied the assessment rate calculation method adopted in Antidumping Proceedings: Calculation of the Weighted-Average Dumping Margin and Assessment Rate in Certain Antidumping Proceedings: Final Modification, 77 FR 8101 (February 14, 2012).

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for Filmag will be that established in the final results of this administrative review; (2) for previously reviewed or investigated companies, the cash deposit rate will continue to be the company-specific rate published for the most recent period; (3) if the exporter is not a firm covered in this review, a prior review, or in the investigation, but the manufacturer is, then the cash deposit rate will be the rate established for the most recent review period for the manufacturer of the merchandise; and (4) the cash deposit rate for all other manufacturers or exporters will continue to be the all-others rate of 26.59 percent, the rate established in the investigation of this proceeding.⁶ These cash deposit requirements, when imposed, shall remain in effect until further notice.

⁶ See Notice of Final Determination of Sales at Less Than Fair Value: Stainless Steel Butt-Weld Pipe Fittings from Italy, 65 FR 81830, 81831 (December 27, 2000).

Notification to Importers

This notice serves as a final reminder to importers of their responsibility under 19 CFR 351.402(f) to file a certificate regarding the reimbursement of antidumping duties prior to liquidation of the relevant entries during the period of review. Failure to comply with this requirement could result in Commerce's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.221(b)(5).

Dated: October 16, 2019.
Jeffrey I. Kessler,
Assistant Secretary for Enforcement and Compliance.

Appendix

List of Topics Discussed in the Final Issues and Decision Memorandum

I. Summary

II. Background

III. Scope of the Order

IV. Changes Since the Preliminary Results

VI. Discussion of the Issues

VII. Recommendation

[FR Doc. 2019-22997 Filed 10-21-19; 8:45 am]

BILLING CODE 3510-DS-P